DEPARTMENT OF LABOR

Office of the Secretary

Submission for OMB Review; Comment Request

May 23, 2000.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation for BLS, ETA, PWBA, and OASAM contact Karin Kurz ((202) 219-5096, ext. 159 or by E-mail to Kurz-Karin@dol.gov). To obtain documentation for ESA, MSHA, OSHA, and VETS contact Darrin King, ((202) 219-5096, ext. 151 or by E-mail to King-Darrin@dol.gov).

Comments should be sent to Office of Information and Regulatory Affairs, Attn: OMB Desk Officer for BLS, DM ESA, ETA, MSHA, OSHA, PWBA, or VETS, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Review: Revision of a currently approved collection.

Agency: Bureau of Labor Statistics.

Title: Consumer Price Index (CPI) Housing Survey (CADC).

OMB Number: 1220-0163.

Affected Public: Individuals or households; Business and other for-profit.

Total Respondents: 128,081 (4 year average).

Total Annual Responses: 163,394 (4 year average).

Burden per response: 7 Minutes.

Total Burden Hours: 19,299 (4 year average).

Total annualized capital/startup costs: $0.

Total annual costs (operating/maintaining systems or purchasing services): $0.

Description: This request is for a three-year clearance for the collection of housing information based on Census data. The data (rents, and other housing costs) are used to construct the Items of Rent and Owners' Equivalent Rent. Together, these items comprise over 27 percent of the Consumer Price Index. Respondents include some owners and/or managers of rental properties throughout the country.

Ira L. Mills,
Departmental Clearance Officer.

[FR Doc. 00-13476 Filed 5-30-00; 8:45 am]

BILLING CODE 4510-24-M